DEPARTMENT OF AGRICULTURE

Forest Service

Lake Tahoe Basin Federal Advisory Committee

AGENCY: Forest Service, USDA.

ACTION: Notice of meeting.

SUMMARY: The Lake Tahoe Basin Federal Advisory Committee will hold a meeting on September 20, 2005, at the North Tahoe Conference Center, 8318 N. Lake Blvd., Kings Beach, CA. This Committee, established by the Secretary of Agriculture on December 15, 1998 (64 FR 2876), is chartered to provide advice to the Secretary on implementing the terms of the Federal Interagency Partnership on the Lake Tahoe Region and other matters raised by the Secretary.

DATES: The meeting will be held September 20, 2005, beginning at 1 p.m. and ending at 5 p.m.

ADDRESSES: The meeting will be held at the North Tahoe Conference Center, 8318 N. Lake Blvd., Kings Beach, CA.

FOR FURTHER INFORMATION CONTACT: Gloria Trahey, Lake Tahoe Basin Management Unit, Forest Service, 35 College Drive, South Lake Tahoe, CA 96150, (530) 543-2643.

SUPPLEMENTARY INFORMATION: The committee will meet jointly with the Lake Tahoe Basin Executives Committee. Items to be covered on the agenda include: (1) A Public Workshop co-hosted by the Tahoe Regional Planning Agency; and (2) and an update on the Southern Nevada Public Land Management Act Process. All Lake Tahoe Basin Federal Advisory Committee meetings are open to the public. Interested citizens are encouraged to attend at the above address. Issues may be brought to the attention of the Committee during the open public comment period at the meeting or by filing written statements with the secretary for the committee before or after the meeting. Please refer any written comments to the Lake Tahoe Basin Management Unit at the contact address stated above.

Dated: August 25, 2005.
Tyrone Kelley,
Deputy Forest Supervisor.

[FR Doc. 05-17407 Filed 8-31-05; 8:45 am]

BILLING CODE 3410-11-M